DEPARTMENT OF COMMERCE

National Oceanic and Atmospheric Administration

Hydrographic Services Review Panel Meeting

AGENCY: National Ocean Service, National Oceanic and Atmospheric Administration (NOAA), Department of Commerce.

ACTION: Notice for open public meeting, and request for public comments.

SUMMARY: This serves as notice of a virtual public meeting for the NOAA Hydrographic Services Review Panel (HSRP) on September 23, 2020, 1-5:30 p.m. EDT, and September 24, 2020, 1-5 p.m. EDT via webinar. The HSRP will be asked for advice and recommendations on the development of the implementation plans for the two ocean and coastal mapping strategies noted below and other HSRP meeting topics. Individuals or groups who also want to comment on these or other NOAA navigation services topics are encouraged to submit advance public comments and letters via email no later than September 15, 2020.

DATES: Comments are due by September 15, 2020.

HSRP public meeting:

1. September 23, 2020, 1-5:30 p.m., EDT.

2. September 24, 2020, 1-5 p.m. EDT.

ADDRESSES: You may submit public comments identified by “September 2020 HSRP meeting public comments” in the subject line of the message by September 15, 2020, by email to: Melanie.Colantuno@noaa.gov, Lynne.Mersfelder@noaa.gov, Virginia.Dentler@noaa.gov, and hydroservices.panel@noaa.gov.

FOR FURTHER INFORMATION CONTACT: Lynne Mersfelder-Lewis, HSRP program manager, National Ocean Service, Office of Coast Survey, NOAA (N/CS), email: hydroservices.panel@noaa.gov, Lynne.Mersfelder@noaa.gov, and phone 240-533-0064.

SUPPLEMENTARY INFORMATION: Advance registration is required for the webinar at: https://register.gotowebinar.com/register/8315160447400968715. Comments are requested on the development of the implementation plans for the ocean and coastal mapping strategies which are as follows:

(1) “National Strategy for Mapping, Exploring, and Characterizing the United States Exclusive Economic Zone,” (NOMEC), including the establishment of a Standard Ocean Mapping Protocol: https://www.whitehouse.gov/wp-content/uploads/2020/01/20200611-FINAL-STRATEGY-NOMEC-Sec.-2.pdf; and;

(2) “Mapping the Coast of Alaska—A 10-Year Strategy in Support of the United States Economy, Security, and Environment,” or the Alaska Coastal Mapping Strategy (ACMS): https://iocm.noaa.gov/about/documents/strategic-plans/alaska-mapping-strategy-june2020.pdf.

Advance written statements will be shared with the HSRP members and will be included in the meeting public record. The HSRP meeting agenda, draft meeting documents, presentations, and background materials are posted online and updates can be downloaded prior to the meeting at: https://www.nauticalcharts.noaa.gov/hsrp/hsrp.html and https://www.nauticalcharts.noaa.gov/hsrp/meetings.html.

Due to the condensed nature of the meeting, each individual or group providing written public comments will be limited to one comment per public comment period with no repetition of previous comments. Comments can also be submitted in writing during the daily public comment period using the chat function in the webinar. Comments will be read into the record, transcribed, and become part of the meeting record. Due to time meeting constraints, all comments may not be addressed during the meeting.

The Hydrographic Services Review Panel (HSRP) is a Federal Advisory Committee established to advise the Under Secretary of Commerce for Oceans and Atmosphere, the NOAA Administrator, on matters related to the responsibilities and authorities set forth in section 303 of the Hydrographic Services Improvement Act of 1998, as amended, and such other appropriate matters that the Under Secretary refers to the Panel for review and advice. Past HSRP public meeting documents, recommendation letters and issue papers are located online at: https://www.nauticalcharts.noaa.gov/hsrp/recommendations.html and https://www.nauticalcharts.noaa.gov/hsrp/meetings.html.

Matters to be Considered

The panel is convening on issues relevant to NOAA's navigation services, including stakeholder use of navigation services data, products and services, and a NOAA request to the HSRP to provide recommendations for the future development of implementation plans for the two ocean and coastal mapping strategies NOMEC and ACMS. The HSRP will discuss at least one draft issue paper “Alaska Coastal Mapping Strategy—Gaps and Priorities”, and other topics related to hydrographic surveys, nautical charting, delays impacting the ongoing National Spatial Reference System (NSRS) modernization, hurricane supplemental funds and the status of coastal mapping, PORTS® (Physical Oceanographic Real-Time System) sensor enhancements and expansion, the research plan for the NOAA-University of New Hampshire Joint Hydrographic Center Cooperative Agreement, “Mapping U.S. Marine and Great Lakes Waters: Office of Coast Survey Contributions to a National Ocean Mapping Strategy”, updates on legislative and budget priorities, and other topics. Navigation services include the data, products, and services provided by the NOAA programs and activities that undertake geodetic observations, gravity modeling, coastal and shoreline mapping, bathymetric mapping, hydrographic surveying, nautical charting, tide and water level observations, current observations, flooding, resilience, inundation and sea level rise, marine modeling, geospatial and LIDAR data, and related topics. This suite of NOAA products and services support safe and efficient navigation, resilient coasts and communities, and the nationwide positioning information infrastructure to support America's commerce. The Panel will hear about the missions and uses of NOAA's navigation services, the value these services bring, and what improvements could be made. Other matters may be considered. The agenda, speakers and time are subject to change, please refer to the website for the most updated information.

Special Accommodations

This meeting is physically accessible to people with disabilities. Please direct requests for sign language interpretation or other auxiliary aids to Melanie.Colantuno@noaa.gov at least 10 business days in advance of the meeting.

Shepard M. Smith,
Director, Office of Coast Survey, National Ocean Service, National Oceanic and Atmospheric Administration.

[FR Doc. 2020-18892 Filed 8-26-20; 8:45 am]

BILLING CODE 3510-JE-P